DEPARTMENT OF THE INTERIOR

National Park Service

National Register of Historic Places; Notification of Pending Nominations and Related Actions

Nominations for the following properties being considered for listing or related actions in the National Register were received by the National Park Service before September 23, 2006. Pursuant to section 60.13 of 36 CFR part 60 written comments concerning the significance of these properties under the National Register criteria for evaluation may be forwarded by United States Postal Service, to the National Register of Historic Places, National Park Service, 1849 C St., NW., 2280, Washington, DC 20240; by all other carriers, National Register of Historic Places, National Park Service, 1201 Eye St., NW., 8th floor, Washington DC 20005; or by fax, 202-371-6447. Written or faxed comments should be submitted by October 21, 2006.

John W. Roberts,
Acting Chief, National Register/National Historic Landmarks Program.

AMERICAN SAMOA

Western District

Vatia, Old, Above Vatia Village SW of AS 15, Vatia Village, 06000956

DISTRICT OF COLUMBIA

District of Columbia

Fifteenth Street Financial Historic District, 15th St. from PA Ave. to I St., Washington, 06000967

FLORIDA

Monroe County

Sloppy Joe's Bar, 201 Duval St., Key West, 06000957

GEORGIA

Fulton County

Cox—Carlton Hotel, 683 Peachtree St., NE., Atlanta, 06000960

Highland School, 978 North Ave., NE., Atlanta, 06000959

Oconee County

High Shoals Historic District, Centered on GA 186, and banks of the Apalachee R, North High Shoals, 06000958

KANSAS

Dickinson County

Trinity Evangelical Lutheran Church, 320 N. Cedar St., Abilene, 06000965

Douglas County

Barnes Apple Barn, 714 E. 1728 Rd., Baldwin City, 06000966

Ellis County

Chestnut Street Historic District, Main, W. 9th, W. 10th, E 11th, E 12th Sts., Hays, 06000968

Sedgwick County

Chapman—Noble House, 1230 N. Waco, Wichita, 06000962

Comley House, 1137 N. Broadway, Wichita, 06000961

Fairmount Congregational Church, 1650 N. Fairmont, Wichita, 06000963

Shawnee County

Gem Building, 506-510 SW 10th Ave., Topeka, 06000964

NEW YORK

Greene County

Oak Hill Methodist Episcopal Church, 427 Main St., Oak Hill, 06000972

Livingston County

Payne Cobblestone House (Cobblestone Architecture of New York State MPS), 5813 Federal Rd., Conesus, 06000969

Monroe County

Jayne and Mason Bank Building, 11 E. Main St., Webster, 06000970

New York County

Macmillan Building, 60-62 Fifth Ave., New York, 06000973

Tioga County

Newark Valley Municipal Building and Tappan—Spaulding Memorial Library, (Newark Valley MPS) 9 Park St. and 8 Rock St., Newark Valley, 06000971

RHODE ISLAND

Providence County

Richmond Paper Company Mill Complex, 310 Bourne Ave., East Providence, 06000974

VIRGINIA

Petersburg Independent City

Pocahontas Island Historic District (Prehistoric through Historic Archeological and Architectural Resources at Bermuda Hundred MPS),Pocahontas, Witten, Rolfe, Logan, and Sapony Sts., Petersburg (Independent City), 06000977

Richmond Independent City

Carver Residential Historic District (Boundary Increase), 909-1011 W. Marshall St., Richmond (Independent City), 06000975

Manchester Residential and Commercial Historic District (Boundary Increase), 1211-17, 1301-1305 and 1418 McDonough St., 310-12 W. 12th St., 309 W. 13th St., 314 and 400 W. 14th St., Richmond (Independent City), 06000976

[FR Doc. E6-16609 Filed 10-5-06; 8:45 am]

BILLING CODE 4312-51-P